DEPARTMENT OF TRANSPORTATION

Federal Aviation Administration

14 CFR Part 39

[Docket No. FAA-2018-0254; Product Identifier 2017-SW-116-AD; Amendment 39-19473; AD 2018-21-15]

RIN 2120-AA64

Airworthiness Directives; Bell Helicopter Textron Canada Limited Helicopters

AGENCY: Federal Aviation Administration (FAA), DOT.

ACTION: Final rule.

SUMMARY: We are superseding Airworthiness Directive (AD) 2017-13-03 for Bell Helicopter Textron Canada Limited (Bell) Model 429 helicopters. AD 2017-13-03 required adding an identification number to life-limited rod ends that do not have a serial number (S/N). Since we issued AD 2017-13-03, an additional life-limited rod end was identified that is affected by the same unsafe condition. This new AD retains the requirements of AD 2017-13-03 and revises the Applicability paragraph by adding that rod end. The actions of this AD are intended to address an unsafe condition on these products.

DATES: This AD is effective November 27, 2018.

The Director of the Federal Register approved the incorporation by reference of a certain publication listed in this AD as of July 27, 2017 (82 FR 28397, June 22, 2017).

ADDRESSES: For service information identified in this final rule, contact Bell Helicopter Textron Canada Limited, 12,800 Rue de l'Avenir, Mirabel, Quebec J7J1R4; telephone (450) 437-2862 or (800) 363-8023; fax (450) 433-0272; or at http://www.bellcustomer.com/files/. You may review this referenced service information at the FAA, Office of the Regional Counsel, Southwest Region, 10101 Hillwood Pkwy., Room 6N-321, Fort Worth, TX 76177. It is also available on the internet at http://www.regulations.gov by searching for and locating Docket No. FAA-2018-0254.

Examining the AD Docket

You may examine the AD docket on the internet at http://www.regulations.gov in Docket No. FAA-2018-0254; or in person at Docket Operations between 9 a.m. and 5 p.m., Monday through Friday, except Federal holidays. The AD docket contains this AD, the Transport Canada AD, any incorporated-by-reference service information, the economic evaluation, any comments received, and other information. The address for Docket Operations (phone: 800-647-5527) is Docket Operations, U.S. Department of Transportation, Docket Operations, M-30, West Building Ground Floor, Room W12-140, 1200 New Jersey Avenue SE, Washington, DC 20590.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Discussion

We issued a notice of proposed rulemaking (NPRM) to amend 14 CFR part 39 to remove AD 2017-13-03, Amendment 39-18933 (82 FR 28397, June 22, 2017) (AD 2017-13-03) and add a new AD. AD 2017-13-03 applied to Bell Model 429 helicopters, S/N 57001 through 57260, with a pylon restraint spring assembly (spring assembly) forward rod end assembly (rod end) part number (P/N) 427-010-210-105 installed. AD 2017-13-03 required cleaning and marking each forward rod end with the S/N of the spring assembly. AD 2017-13-03 also prohibited the installation of forward rod end P/N 427-010-210-105 on any helicopter unless it had been marked.

The NPRM published in the Federal Register on April 5, 2018 (83 FR 14606). The NPRM was prompted by AD No. CF-2015-15R1, Revision 1, dated July 28, 2017, issued by Transport Canada, which is the Technical Agent for the Member States of Canada, to correct an unsafe condition for Bell Model 429 helicopters, S/Ns 57001 through 57260. Transport Canada advises that, per its regulations, life-limited parts must be marked with their P/N and S/N. Transport Canada further states that spring assembly rod end P/Ns 427-010-210-105 and -109 have a life limit of 5,000 hours; however, they are not serialized, causing difficulties in tracking accumulated air time. According to Transport Canada, this condition could result in a rod end remaining in service beyond its life limit. Therefore, the Transport Canada AD requires adding identification markings on each spring assembly rod end.

Accordingly, the NPRM proposed to continue to retain the requirements of AD 2017-13-03 and revise the Applicability paragraph by adding aft rod end P/N 427-010-210-109 since it is also affected by the same unsafe condition. The proposed requirements were intended to prevent a rod end from remaining in service after reaching its life limit, which could result in failure of the rod end and subsequent loss of control of a helicopter.

Comments

After our NPRM was published, we received a comment from one commenter.

Request

Bell noted a typographical error in the “Actions Since AD 2017-13-03 Was Issued” section of the preamble, which incorrectly referred to rod end P/N 427-010-210-105 instead of P/N 427-010-210-109.

We agree with the comment. However, since the text with the error is not restated in the preamble of this Final Rule, no change is necessary.

FAA's Determination

We have reviewed the relevant information and determined that an unsafe condition exists and is likely to exist or develop on other helicopters of the same type design and that air safety and the public interest require adopting the AD requirements as proposed.

Related Service Information Under 1 CFR Part 51

We reviewed Bell Helicopter Alert Service Bulletin 429-15-19, dated February 26, 2015, for Model 429 helicopters. This service information specifies procedures for permanently marking each forward and aft rod end with the S/N of the spring assembly. This service information applies to certain serial-numbered helicopters, as subsequent helicopters will have these actions performed during the manufacturing process.

This service information is reasonably available because the interested parties have access to it through their normal course of business or by the means identified in the ADDRESSES section.

Other Related Service Information

We also reviewed Bell Helicopter Maintenance Manual BHT-429-MM-1, Chapter 4, Airworthiness Limitations Schedule, Revision 26, approved September 9, 2016, which specifies airworthiness life limits and inspection intervals for parts installed on Model 429 helicopters.

Costs of Compliance

We estimate that this AD affects 75 helicopters of U.S. Registry. We estimate that operators may incur the following costs in order to comply with this AD.

Marking the rod ends takes about 0.5 work-hour for an estimated cost of $43 per helicopter and $3,225 for the U.S. fleet. Replacing a rod end that has exceeded its life limit takes about 3 work-hours and required parts cost about $4,100 for an estimated cost of $4,355 per rod end.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that a regulatory distinction is required, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-13-03, Amendment 39-18933 (82 FR 28397, June 22, 2017), and adding the following new AD:

2018-21-15 Bell Helicopter Textron Canada Limited: Amendment 39-19473; Docket No. FAA-2018-0254; Product Identifier 2017-SW-116-AD.

(a) Applicability

This AD applies to Model 429 helicopters, serial number 57001 through 57260, with a pylon restraint spring assembly (spring assembly) forward rod end assembly (rod end) part number (P/N) 427-010-210-105 or aft rod end P/N 427-010-210-109 installed, certificated in any category.

(b) Unsafe Condition

This AD defines the unsafe condition as a rod end remaining in service after reaching its life limit. This condition could result in failure of a rod end and subsequent loss of control of a helicopter.

(c) Affected ADs

This AD replaces AD 2017-13-03, Amendment 39-18933 (82 FR 28397, June 22, 2017).

(d) Effective Date

This AD becomes effective November 27, 2018.

(e) Compliance

You are responsible for performing each action required by this AD within the specified compliance time unless it has already been accomplished prior to that time.

(f) Required Actions

(1) Within 140 hours time-in-service, clean and identify each rod end with the spring assembly serial number in accordance with the Accomplishment Instructions, paragraphs 3. through 8., of Bell Helicopter Alert Service Bulletin 429-15-19, dated February 26, 2015.

(2) Do not install a forward rod end P/N 427-010-210-105 or an aft rod end P/N 427-010-210-109 on any helicopter unless it has been marked with a serial number in accordance with paragraph (f)(1) of this AD.

(g) Alternative Methods of Compliance (AMOCs)

(1) The Manager, Safety Management Section, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Bell Helicopter Maintenance Manual BHT-429-MM-1, Chapter 4, Airworthiness Limitations Schedule, Revision 26, approved September 9, 2016, which is not incorporated by reference, contains additional information about the subject of this AD. For service information identified in this AD, contact Bell Helicopter Textron Canada Limited, 12,800 Rue de l'Avenir, Mirabel, Quebec J7J1R4; telephone (450) 437-2862 or (800) 363-8023; fax (450) 433-0272; or at http://www.bellcustomer.com/files/. You may review a copy of the service information at the FAA, Office of the Regional Counsel, Southwest Region, 10101 Hillwood Pkwy., Room 6N-321, Fort Worth, TX 76177.

(2) The subject of this AD is addressed in Transport Canada AD No. CF-2015-15R1, Revision 1, dated July 28, 2017. You may view the Transport Canada AD on the internet at http://www.regulations.gov in Docket No. FAA-2018-0254.

(i) Subject

Joint Aircraft Service Component (JASC) Code: 5101, Standard Practices/Structures.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on July 27, 2017.

(i) Bell Helicopter Alert Service Bulletin 429-15-19, dated February 26, 2015.

(ii) Reserved.

(4) For Bell Helicopter service information identified in this AD, contact Bell Helicopter Textron Canada Limited, 12,800 Rue de l'Avenir, Mirabel, Quebec J7J1R4; telephone (450) 437-2862 or (800) 363-8023; fax (450) 433-0272; or at http://www.bellcustomer.com/files/.

(5) You may view this service information at FAA, Office of the Regional Counsel, Southwest Region, 10101 Hillwood Pkwy., Room 6N-321, Fort Worth, TX 76177. For information on the availability of this material at the FAA, call (817) 222-5110.

(6) You may view this service information that is incorporated by reference at the National Archives and Records Administration (NARA). For information on the availability of this material at NARA, call (202) 741-6030, or go to: http://www.archives.gov/federal-register/cfr/ibr-locations.html.

Issued in Fort Worth, Texas, on October 15, 2018.
Lance T. Gant,
Director, Compliance & Airworthiness Division, Aircraft Certification Service.

[FR Doc. 2018-23037 Filed 10-22-18; 8:45 am]

BILLING CODE 4910-13-P